DEPARTMENT OF TRANSPORTATION

Federal Aviation Administration

14 CFR Part 71

[Docket No. FAA-2004-17081; Airspace Docket No. 04-AEA-01]

Proposed Amendment to Class E Airspace; Washington, DC

AGENCY: Federal Aviation Administration (FAA), DOT.

ACTION: Notice of proposed rulemaking.

SUMMARY: This notice proposes to amend the Class E airspace area in the Washington, DC, metropolitan area. The development of multiple area navigation (RNAV) Standard Instrument Approach Procedures (SIAP) and the proliferation of airports within the Washington, DC, metropolitan area with approved Instrument Flight Rules (IFR) operations and the resulting overlap of designated Class E-5 airspace has made this proposal necessary. The proposal would consolidate the Class E-5 airspace designations for twenty four airports and heliports and result in the recision of nineteen separate Class E-5 descriptions through separate rulemaking action. The area would be depicted on aeronautical charts for pilot reference.

DATES: Comments must be received on or before March 26, 2004.

ADDRESSES: Send comments on the proposal to the Docket Management System, U.S. Department of Transportation, Room Plaza 401, 400 Seventh Street, SW., Washington, DC 20590-0001. You must identify the docket number FAA-2004-17081/Airspace Docket No. 04-AEA-01 at the beginning of your comments. You may also submit comments on the Internet at http://dms.dot.gov. You may review the public docket containing the proposal, any comments received, and any final disposition in person in the Dockets Office between 9 a.m. and 5 p.m., Monday through Friday, except Federal holidays. The Docket Office (telephone 1-800-647-5527) is on the plaza level of the Department of Transportation NASSIF Building at the above address.

An informal docket may also be examined during normal business hours at the office of the Regional Air Traffic Division, Federal Aviation Administration, Eastern Region, 1 Aviation Plaza, Jamaica, NY 11434-4809.

FOR FURTHER INFORMATION CONTACT: Mr. Francis T. Jordan, Jr., Airspace Specialist, Airspace Branch, AEA-520, Eastern Region, 1 Aviation Plaza, Jamaica, NY 11434-4809, telephone: (718) 553-4521.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, economic, environmental, and energy-related aspects of the proposal. Communications should identify the airspace docket number and be submitted in triplicate to the address listed above. Commenters wishing the FAA to acknowledge receipt of their comments on this notice must submit with those comments a self-addressed, stamped postcard on which the following statement is made: “Comments to Airspace Docket No. FAA-2004-17081/Airspace Docket No. 04-AEA-01.” The postcard will be date/time stamped and returned to the commenter.

Availability of NPRMs

An electronic copy of this document may be downloaded through the Internet at http://dms.dot.gov. Recently published rulemaking documents can also be accessed through the FAA's web page at http://www.faa.gov or the Superintendent of Documents Web page at http://www.access.gpo.gov/nara. Additionally, any person may obtain a copy of this notice by submitting a request to the Office of Air Traffic Airspace Management, ATA-400, 800 Independence Avenue, SW., Washington, DC 20591 or by calling (202) 267-8783. Communications must identify both the docket numbers for this notice. Persons interested in being placed on a mailing list for future NPRMs should contact the FAA's Office of Rulemaking, (202) 267-9677 to request a copy of Advisory Circular No. 11-2A, which describes the application procedure.

The Proposal

The FAA is considering an amendment to part 71 of the Federal Aviation Regulations (14 CFR part 71) to amend the Class E airspace within the Washington, DC, metro area. The proposal would consolidate the following Class E-5 airspace designations into the Washington, DC, designation: Washington/Ronald Reagan Washington National Airport, DC; Andrews Air Force Base, MD; Lee Airport, MD; Baltimore Washington International Airport, MD; Martin State Airport, MD; College Park Airport, MD; Maryland State Police Heliport, MD; Tipton Airport, MD; Frederick Municipal Airport, MD; Potomac Airport, MD; Montgomery County Airpark, MD; Freeway Airport, MD; Bay Bridge Airport, MD; Cowley Shock Trauma Center Heliport, MD; Carroll County Airport, MD; Clearview Airpark, MD; Davison Army Air Field, VA; Birch Hollow, VA; Washington Dulles International Airport, VA; Leesburg Municipal/Godfrey Field, VA; Manassas Municipal/Harry P. Davis Airport, VA; Mobil Business Resources Corporation Heliport, VA; Upperville Airport, VA. This action would result in the recision of nineteen Class E-5 designations under a separate docket. The affected airspace would subsequently be incorporated into the Washington, DC, description. The airspace will be defined to accommodate the approaches and contain IFR operations to and from those airports. This change would have no impact on aircraft operations since the type of airspace designation is not changing. Furthermore, the IFR approach procedures for the individual airports within the area would not be affected. Class E airspace designations for airspace areas extending upward from 700 ft or more above the surface are published in Paragraph 6005 of FAA Order 7400.9L, dated September 2, 2003, and effective September 16, 2003, which is incorporated by reference in 14 CFR 71.1. The Class E airspace designation listed in this document would be published subsequently in the Order.

The FAA has determined that this proposed regulation only involves an established body of technical regulations for which frequent and routine amendments are necessary to keep them operationally current. Therefore, this proposed regulation—(1) is not a “significant regulatory action” under Executive Order 12866; (2) is not a “significant rule” under DOT Regulatory Policies and Procedures (44 FR 11034; February 26, 1979); and (3) does not warrant preparation of a regulatory evaluation as the anticipated impact is so minimal. Since this is a routine matter that would only affect air traffic procedures and air navigation, it is certified that this proposed rule would not have significant economic impact on a substantial number of small entities under the criteria of the Regulatory Flexibility act.

List of Subjects in 14 CFR Part 71

Airspace, Incorporation by reference, Navigation (air).

The Proposed Amendment

In consideration of the foregoing, the Federal Aviation Administration proposes to amend 14 CFR part 71 as follows:

PART 71—[AMENDED]

1. The authority citation for 14 CFR part 71 continues to read as follows:

Authority: 49 U.S.C. 106(g), 40103, 40113, 40120; E.O. 10854; 24 FR 9565, 3 CFR, 1959-1963 Comp., p. 389.

§ 71.1 [Amended]

2. The incorporation by reference in 14 CFR 71.1 of Federal Aviation Administration Order 7400.9L, dated September 2, 2003, and effective September 16, 2003, is proposed to be amended as follows:

Paragraph 6005 Class E airspace areas extending upward from 700 feet or more above the surface of the earth.

* * * * *

AEA DC E5 Washington, DC (Revised)

That airspace extending upward from 700 feet above the surface within an area bounded by a line beginning at lat. 38°55′19″ N., long. 76°12′28″ W., to lat. 38°27′18″ N., long. 77°03′51″ W., to lat. 38°36′30″ N., long. 77°15′17″ W., to lat. 38°35′12″ N., long. 77°37′06″ W., to lat. 38°57′17″ N., long. 78°02′29″ W., to lat. 39°30′00″ N., long. 78°09′00″ W., to lat. 39°44′36″ N., long. 77°36′08″ W., to lat. 39°43′28″ N., long. 77°00′00″ W., to lat. 39°36′08″ N., long. 76°28′38″ W., to lat. 39°19′38″ N., long. 76°04′04″ W., to the point of beginning excluding the airspace that coincides with the Aberdeen, MD, Hagerstown, MD, Winchester, VA, Midland, VA Class E airspace areas and P-56A, P-56B, P-73, P-40, R-4009, R-4001A, R4001B, R-6608A, R-6608B and R-6608C when they are in effect.

* * * * *

Issued in Jamaica, New York, on February 17, 2004.
John G. McCartney,
Assistant Manager, Air Traffic Division, Eastern Region.

[FR Doc. 04-4181 Filed 2-24-04; 8:45 am]

BILLING CODE 4910-13-M